DEPARTMENT OF TRANSPORTATION

Federal Aviation Administration

[Summary Notice No. PE-2006-37]

Petitions for Exemption; Summary of Petitions Received

AGENCY: Federal Aviation Administration (FAA), DOT.

ACTION: Notice of petition for exemption received.

SUMMARY: Pursuant to FAA's rulemaking provisions governing the application, processing, and disposition of petitions for exemption, part 11 of Title 14, Code of Federal Regulations (14 CFR), this notice contains a summary of certain petitions seeking relief from specified requirements of 14 CFR. The purpose of this notice is to improve the public's awareness of, and participation in, this aspect of the FAA's regulatory activities. Neither publication of this notice nor the inclusion or omission of information in the summary is intended to affect the legal status of any petition or its final disposition.

DATES: Comments on petitions received must identify the petition docket number involved and must be received on or before November 13, 2006.

ADDRESSES: Send comments on the petition to the Docket Management System, U.S. Department of Transportation, Room Plaza 401, 400 Seventh Street, SW., Washington, DC 20590-0001. You must identify the docket number FAA-2006-25308, FAA-2006-25916, FAA-2006-24241, or FAA-2006-24521 at the beginning of your comments. If you wish to receive confirmation that the FAA received your comments, include a self-addressed, stamped postcard.

You may also submit comments through the Internet to http://dms.dot.gov. You may review the public docket containing the petition, any comments received, and any final disposition in person in the Dockets Office between 9 a.m. and 5 p.m., Monday through Friday, except Federal holidays. The Dockets Office (telephone 1-800-647-5527) is on the plaza level of the NASSIF Building at the Department of Transportation at the above address. Also, you may review public dockets on the Internet at http://dms.dot.gov.

FOR FURTHER INFORMATION CONTACT: Annette Kovite, 425-227-1262, Transport Airplane Directorate (ANM-113), Federal Aviation Administration, 1601 Lind Ave., SW., Renton, WA 98057-3356; or Frances Shaver (202-267-9681), Office of Rulemaking (ARM-1), Federal Aviation Administration, 800 Independence Avenue, SW., Washington, DC 20591.

This notice is published pursuant to 14 CFR 11.85 and 11.91.

Issued in Washington, DC, on October 16, 2006.
Eve Taylor Adams,
Acting Director, Office of Rulemaking.

Petitions for Exemption

Docket No.: FAA-2006-25308.

Petitioner: Progressive Aerodyne, Inc.

Section of 14 CFR Affected: §§ 21.190.

Description of Relief Sought: Petitioner seeks an exemption to operate the SeaRey amphibian airplane under the Experimental Light Sport Aircraft (ELSA) category. This exemption would be necessary to operate the airplane's retractable landing gear. The petitioner also wants to exercise the privilege of the exemption outside the United States because its airplane is sold in many different countries, and most of them have reciprocity with the FAA.

Petitions for Exemption

Docket No.: FAA-2006-25916.

Petitioner: Alaska Airlines, Inc.

Section of 14 CFR Affected: § 121.313(j)(1)(ii).

Description of Relief Sought: Exemption from 14 CFR 121.313(j)(1)(ii) would allow Alaska Airlines to eliminate the requirement for a procedure on their B737-400 combination passenger/cargo operations for a flight attendant to enter the pilot compartment in the event a flight crew member becomes incapacitated.

Petitions for Exemption

Docket No.: FAA-2006-24241.

Petitioner: Aero Sports Connection.

Sections of 14 CFR Affected: § 21.190(c)(2) and 21.191(i)(1).

Description of Relief Sought: The exemption would allow light-sport aircraft certification for certain aircraft equipped with retractable landing gear. The petitioner proposes to administer the exemption as a community-wide exemption, maintained by Aero Sports Connection and provided at no cost to complying applicants.

Petitions for Exemption

Docket No.: FAA-2006-24521.

Petitioner: Aero Sports Connection.

Sections of 14 CFR Affected: § 21.190(b), 21.191(i)(1), 21.191(i)(2)(iii), and 21.191(i)(3).

Description of Relief Sought: The exemption would allow an increase in the maximum takeoff weights for certain lighter-than-air (LTA) aircraft operating as light-sport aircraft (LSA).

[FR Doc. E6-17827 Filed 10-23-06; 8:45 am]

BILLING CODE 4910-13-P